FEDERAL MARITIME COMMISSION

Notice of Intent To Terminate

The Commission gives notice that it intends to terminate the following agreement pursuant to 46 CFR 501.17(h)(2) thirty days from publication of this notice.

Agreement No.: 012022.

Agreement Name: Discovery Cruise Line/Bernuth Lines Space Charter and Sailing Agreement.

Reason for termination: Parties no longer registered Vessel Operating Common Carriers.

Location: https://www2.fmc.gov/FMC.Agreements.Web/Public/AgreementHistory/1866.

Dated: March 22, 2022.
William Cody,
Secretary.

[FR Doc. 2022-06308 Filed 3-24-22; 8:45 am]

BILLING CODE 6730-02-P